DEPARTMENT OF LABOR

Employment and Training Administration

[TA-W-52,861]

Intermet, Radford Foundry, Radford, Virginia; Notice of Negative Determination Regarding Application for Reconsideration

By application of January 9, 2004, a company official requested administrative reconsideration of the Department's negative determination regarding eligibility for workers and former workers of the subject firm to apply for Trade Adjustment Assistance (TAA). The denial notice was signed on November 19, 2003 and published in the Federal Register on April 6, 2004 (69 FR 18109).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Intermet, Radford Foundry, Radford, Virginia engaged in the production of camshafts, reaction shafts and transmission components were denied because the “contributed importantly” group eligibility requirement of Section 222 of the Trade Act of 1974 was not met. The “contributed importantly” test is generally demonstrated through a survey of the workers' firm's customers. The Department conducted a survey of the subject firm's major customers regarding their purchases of camshafts, reaction shafts and transmission components during 2001, 2002 and January through September of 2003. The respondents reported no increased imports. The subject firm did not increase its reliance on imports of camshafts, reaction shafts and transmission components during the relevant period, nor did it shift production to a foreign source.

The petitioner alleges that the layoffs at the subject firm are attributable to a shift in production to foreign countries.

A review of the initial investigation and a further contact with a company official confirmed that Intermet, Radford Foundry, Radford, Virginia did plan a shift of production from Radford, Virginia facility to Mexico in the second quarter of 2004, after the relevant time period. The company official further indicated that no production has been moved from Radford Foundry to Mexico as of February 19, 2004, and no time line was given to when this will happen.

Should the shift to Mexico occur, the petitioners are encouraged to file a new petition on behalf of workers at the Intermet, Radford Foundry, Radford, Virginia, thereby creating a relevant period of investigation that would include changing conditions.

Conclusion

After review of the application and investigative findings, I conclude that there has been no error or misinterpretation of the law or of the facts which would justify reconsideration of the Department of Labor's prior decision. Accordingly, the application is denied.

Signed at Washington, DC, this 13th day of April 2004.
Elliott S. Kushner,
Certifying Officer, Division of Trade Adjustment Assistance.

[FR Doc. E4-1057 Filed 5-7-04; 8:45 am]

BILLING CODE 4510-13-P